Proclamation 10274 of September 30, 2021

National Manufacturing Day, 2021

By the President of the United States of America

A Proclamation

On National Manufacturing Day, we celebrate all that is made in America and recognize the importance of our Nation's manufacturers to every aspect of our lives. From the electronics we rely on, to the safely packaged foods we eat, to the clothing we wear, to the appliances and furniture in our homes, to the cars we drive—American manufacturing is essential to our economy. It employs over 12 million Americans directly and many more indirectly—providing high quality jobs to communities across the country and producing the highest quality goods in the world.

In the early days of the COVID-19 pandemic, our manufacturing sector was upended—578,000 manufacturing jobs were lost in 2020. Supply chain disruptions left our Nation short of lifesaving protective equipment, ventilators, and other essential health equipment at a time when we needed it most. However, our Nation's manufacturers and manufacturing workers stepped up—refitting their operations to produce needed materials and working long hours to make sure our Nation had what we needed.

The pandemic brought into even sharper focus the fragility of many of our global supply chains, which were already subject to everything from accidents and extreme weather to other countries engaging in unfair trade practices. In the name of our national and economic security and in support of American-based companies, American manufacturing, and American jobs—especially union jobs—I have committed our Nation to building our own resilient supply chains. That is why, during my first days in office, I signed an Executive Order to support manufacturing, rebuild our industrial base, and strengthen our supply chains—all while creating good-paying, union jobs. My order, ensuring that our future is made in all of America by American workers, also strengthens domestic manufacturing by directing Federal agencies to buy more American-made products.

My Administration has also called for historic investments in making our supply chains more resilient as well as investments in new and cleaner manufacturing technologies that will help us innovate and lead in manufacturing in the 21st century. The clean energy economy presents an enormous opportunity to revitalize American manufacturing, maintaining and creating good-paying, union jobs, while cleaning up the air and water in communities across the country. That's why my Administration is calling for investments to ensure that as we build everything from wind turbines to electric vehicles and that they are made in the United States with clean, American-made materials. The Federal Government is a major buyer in markets for goods and services. One of the most effective ways to support and grow American companies, put more Americans to work, and to strengthen American manufacturing is to buy American. My Administration is making the biggest enforcement change to the Buy American Act in 70 years, raising the amount of domestic content required to be considered “Made in America” from 55 percent to 75 percent.

My Administration has also invested in our Nation's communities and the manufacturing base that builds them. Through programs like the Manufacturing Extension Partnership, Manufacturing USA, and opportunities sponsored by the Economic Development Administration of the Department of Commerce, we are providing resources to support and strengthen STEM education, infrastructure, technology hubs, and economic opportunities for all people in every region of our country.

As we continue to recover from the pandemic and millions of Americans return to work, there will be good opportunities available at all levels of the manufacturing industry that will need to be filled over the next decade.

On National Manufacturing Day, we commit to strengthening and supporting the American manufacturers and hardworking manufacturing employees of today as well as the manufacturers and workers of the future. We commit to building a future that is made in America.

NOW, THEREFORE, I, JOSEPH R. BIDEN JR., President of the United States of America, by virtue of the authority vested in me by the Constitution and the laws of the United States, do hereby proclaim October 1, 2021, as National Manufacturing Day. I encourage all Americans to look for ways to get involved in your community and join me in participating in National Manufacturing Day, and, most importantly, buy American.

IN WITNESS WHEREOF, I have hereunto set my hand this thirtieth day of September, in the year of our Lord two thousand twenty-one, and of the Independence of the United States of America the two hundred and forty-sixth.

[FR Doc. 2021-21907

Filed 10-4-21; 11:15 am]

Billing code 3395-F2-P